DEPARTMENT OF COMMERCE

National Oceanic and Atmospheric Administration

RIN 0648-XC400

Endangered and Threatened Species; Take of Anadromous Fish

AGENCY: National Marine Fisheries Service (NMFS), National Oceanic and Atmospheric Administration (NOAA), Commerce.

ACTION: Receipt of an application for a scientific research permit.

SUMMARY: Notice is hereby given that NMFS has received a scientific research permit application request relating to salmonids listed under the Endangered Species Act (ESA). The proposed research program is intended to increase knowledge of the species and to help guide management and conservation efforts. The applications and related documents may be viewed online at: https://apps.nmfs.noaa.gov/preview/preview_open_for_comment.cfm. These documents are also available upon written request or by appointment by contacting NMFS by phone (707) 575-6097 or fax (707) 578-3435.

DATES: Written comments on the permit application must be received at the appropriate address or fax number (see ADDRESSES) no later than 5 p.m. Pacific standard time on January 23, 2013.

ADDRESSES: Written comments should be submitted to the Protected Resources Division, NMFS, 777 Sonoma Avenue, Room 325, Santa Rosa, CA 95404. Comments may also be submitted via fax to (707) 578-3435 or by email to FRNpermits.SR@noaa.gov.

FOR FURTHER INFORMATION CONTACT: Jeffrey Jahn, Santa Rosa, CA (ph.: 707-575-6097, email.: Jeffrey.Jahn@noaa.gov).

SUPPLEMENTARY INFORMATION:

Species Covered in This Notice

This notice is relevant to federally threatened Central California Coast steelhead (Oncorhynchus mykiss).

Authority

Scientific research permits are issued in accordance with section 10(a)(1)(A) of the ESA of 1973 (16 U.S.C. 1531-1543) and regulations governing listed fish and wildlife permits(50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the application listed in this notice should set out the specific reasons why a hearing on the application would be appropriate (see ADDRESSES). Such hearings are held at the discretion of the Assistant Administrator for Fisheries, NMFS.

Application Received

Permit 16417

The Santa Clara Valley Water District (SCVWD) is requesting a 5-year scientific research permit to take juvenile Central California Coast (CCC) steelhead associated with a research project in Coyote Creek, Steven's Creek, and the Guadalupe River in Santa Clara County, California. This permit is a renewal of Permit 1121 previously issued to SCVWD. In the study described below, researchers do not expect to kill any listed fish but a small number may die as an unintended result of the research activities.

This project is part of an ongoing effort to monitor status and trends of CCC steelhead in Santa Clara County and determine relationships between CCC steelhead population abundance and SCVWD water operations and activities. This data will aid future research, restoration, and conservation efforts for ESA-listed steelhead. The objective is to continue out-migrant trapping on a daily basis from March 1 through June 15, annually. In this project, adult, juvenile, and smolt CCC steelhead will be captured (by fyke net), handled (identified, measured, weighed), marked (caudal fin-clips), sampled (fin-clips, scales), and released. A subset of fin-clipped steelhead smolts will be released upstream of the trap for a mark-recapture study to determine trap efficiency. All data and information will be shared with county, state, and federal entities for use in conservation and restoration planning efforts related to CCC steelhead.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final actions in the Federal Register.

Dated: December 17, 2012.
Angela Somma,
Chief, Endangered Species Division, Office of Protected Resources, National Marine Fisheries Service.

[FR Doc. 2012-30836 Filed 12-21-12; 8:45 am]

BILLING CODE 3510-22-P